DEPARTMENT OF HOUSING AND URBAN DEVELOPMENT

[Docket No. 4817-N-09]

Notice of Proposed Information Collection for Family Report, MTW Family Report, and Reporting Discrepancy in Tenant-Reported Cross Income for Public Comments

AGENCY: Office of the Assistant Secretary for Public and Indian Housing, HUD.

ACTION: Notice.

SUMMARY: The proposed information collection requirements described below will be submitted to the Office of Management and Budget (OMB) for review and approval, as required by the Paperwork Reduction Act. As a preliminary step, the Department, by this publication in the Federal Register, is soliciting public comments on the subject proposals.

DATES: Comments Due Date: September 15, 2003.

ADDRESSES: Interested persons are invited to submit comments regarding these proposals. Comments should refer to the proposals by name and/or OMB Control number and should be sent to: Mildred M. Hamman, Reports Liaison Officer, Public and Indian Housing, Department of Housing and Urban Development, 451 7th Street, SW., Room 4249, Washington, DC 20410-5000.

FOR FURTHER INFORMATION CONTACT: Mildred M. Hamman, (202) 708-0614, extension 4128, for copies of the proposed forms and other available documents. (This is not a toll-free number).

SUPPLEMENTARY INFORMATION: At the end of the comment period, the Department will submit the proposed information collection notice to the Office of Management and Budget for review, as required by the Paperwork Reduction Act of 1995 (44 U.S.C. Chapter 35, as amended).

This notice will address three related proposals to improve Public and Indian Housing (PIH) tenant data collection and verification: (1) Approval of the revised Form, HUD-50058, (2) approval to extend the Form HUD-50058 MTW (6/2001), and (3) authorization to collect 3 data elements pertaining to verified benefit payments from the Social Security Administration and 6 data elements pertaining to verified wage and unemployment insurance payments. When integrated, these three collection tools will allow HUD to gather more complete and accurate tenant information with which to monitor program performance.

Background

(1) Form HUD-50058

The Department of Housing and Urban Development (HUD) intends to revise Form HUD-50058 in a manner that will require changes to the HUD Form, HUD-50058 Module in the Public and Indian Housing Information Center (PIC), but will not require changes in software systems of public housing agencies or vendors supporting public housing agencies. HUD will maintain the current information collection burden until the changes in HUD's PIC system have been completed. Therefore, HUD seeks comments on the proposed revisions to the Form HUD-50058 and on the proposal to extend the existing Form HUD-50058 (6/2001) until the revisions are fully implemented.

The Form HUD-50058 collects demographic and income data on residents participating in PIH's Public Housing, Section 8 Housing Choice Voucher, Section 8 Project Based Certificates, and Section 8 Moderate Rehabilitation programs. Public housing agencies will transmit the form electronically to HUD at least annually for each household.

The Department updated the currently approved Form HUD-50058 by removing obsolete and unnecessary data fields. These deletions will not require vendors to modify their software for reporting family data to the Public and Indian Housing Information Center (PIC)—the information system that collects electronic Form HUD-50058 data. Public housing agencies should not modify their software to reflect the deletions, but they are no longer required to send data in the fields that HUD has deleted. If public housing agencies submit data for the deleted fields using the file structure of the current form (Form HUD-50058 (6/2001)), the PIC system will ignore the data.

HUD conducted a two-day industry consultation session with public housing agencies (PHA), trade organizations, vendors, and other interested parties in November 2002 to collect suggestions to improve the Form HUD-50058 and the reporting rate by public housing agencies to the Form 50058 Module in the Public and Indian Housing Information Center. The Department reviewed all of the suggestions gathered at the consultation session and incorporated them where possible into the revised Form HUD-50058, resulting in modest changes to the form, none of which require changes to vendor software. HUD continues to work collaboratively with the user community to produce an improved Form HUD-50058 that meets the needs of HUD, public housing agencies, and other users.

(2) Form HUD-50058 MTW

HUD seeks comments on the proposal to extend the existing Form HUD-50058 MTW (6/2001). The Form HUD-50058 MTW collects demographic and income data on residents participating in PIH's Public Housing, Section 8 Housing Choice Voucher, Section 8 Project Based Certificates, and Section 8 Moderate Rehabilitation programs and whose public housing agencies participate in the Moving-to-Work (MTW) program. MTW-PHA (i.e., public housing agencies participating in the Moving-to-Work demonstration program) will transmit the form electronically to HUD at least annually for each household.

Form HUD-50058 MTW addresses the particular reporting requirements and constraints for public housing agencies that participate in the Moving-to-Work (MTW) demonstration program mandated by Section 206 of the 1996 HUD Appropriations Act. This information collection effort supports MTW program monitoring and evaluation, as required by Congress. MTW-PHA will use the Form HUD-50058 MTW to collect data on MTW-families only. MTW-families include families who participate in any component of the MTW program. This includes families who receive self-sufficiency support services but pay rent under conventional program rules. Non-MTW-families include families who reside in a MTW-PHA but do not participate in any component of the MTW program. MTW-PHA will continue to use the regular Form HUD-50058 for Non-MTW families.

Public housing agencies that currently participate in the MTW demonstration program are:

• Cambridge Housing Authority

• Chicago Housing Authority

• Delaware State Housing Authority

• Greene Metropolitan Housing Authority

• Housing Authority of the City of High Point

• Keene Housing Authority

• Lawrence-Douglas Housing Authority

• Lincoln Housing Authority

• Housing Authority of Louisville

• Massachusetts Department of Housing and Community Development

• Minneapolis Public Housing Authority

• Housing Authority of the City of New Haven

• Philadelphia Housing Authority

• Housing Authority of the City of Pittsburgh

• Portage Metropolitan Housing Authority

• Housing Authority of Portland

• San Antonio Housing Authority

• San Diego Housing Commission

• Housing Authority of the County of San Mateo

• Seattle Housing Authority

• Housing Authority of the County of Tulare

• Housing Authority of the City of Vancouver

Additional public housing agencies may join the MTW program.

(3) Systems to Monitor Reductions in Subsidy Payment Errors

In response to a Presidential Management Initiative, HUD has established the Annual Performance Plan goal to reduce subsidy payment errors by 15% in 2003, 30% by 2004, and 50% by 2005. In support of this goal, the Real Estate Assessment Center (REAC) implemented an income verification component in the Tenant Assessment Sub-System (TASS), which assists public housing agencies (PHA) in the detection and prevention of program abuses. TASS performs this function by providing over the Internet the ability for public housing agencies to verify income from Social Security (SS) and Supplemental Security Income (SSI) reported on the Form HUD-50058.

Program Administrators of HUD's rental assistance programs need SS and SSI information to determine the amount of rental assistance that tenants are entitled to received. Currently, TASS uses an automated matching process to compare tenants' SS and SSI benefits from the Social Security Administration's (SSA) database to SS and SSI benefits reported to HUD by public housing agencies on the Form HUD-50058. This process runs every month and generates two online reports: the Monthly Benefit History, which contains a list of all tenants to be re-certified, and the Income Discrepancy, which identifies tenants with discrepancies in SS and SSI benefit payments.

While the current process delivers great value by providing timely information that may be used to detect and prevent program abuse, TASS does not now gather information necessary to measure the amount of benefits incorrectly reported to the PHA. The information collection covered by this request will correct this deficiency.

HUD will also soon implement a complementary system to provide public housing agencies with an on-line source of a thirty-party-verified wage and unemployment benefit payments. Public housing agencies can use the information to verify tenant-supplied income-related information at the time of annual and interim re-examinations and to more accurately calculate the amount of rental assistance that tenants are entitled to receive. This will improve the accuracy of data reported to HUD on the Form HUD-50058.

The new system will also allow HUD to gather information necessary to measure the amount of tenants' gross wage and unemployment benefit payments that are incorrectly reported to public housing agencies. HUD can use the data, combined with that collected through TASS, to generate statistics to measure progress towards the Annual Performance Plan (APP) goal to reduce both the number of errors and the estimated net annual subsidy overpayment by 50% over the next three years.

Highlight of the Changes

(1) Form HUD-50058

The revised Form HUD-50058 reflects the initiative to remove obsolete and unnecessary lines from the form. The revised Form HUD-50058 contains 27% fewer lines and three fewer pages. The items removed from the existing Form HUD-50058 include section 14 (Manufactured Home Owner Renting the Space) and section 16 (Indian Mutual Help). Some Welfare to Work (WtW) elements of section 17 (Family Self-Sufficiency (FSS)/Welfare to Work (WtW) Voucher Addendum), space for five family members in Section 3 (Household), reserved field, and references to Indian Housing and Pre-merger (Certificates and Vouchers were also removed. HUD also removed lines numbered and labeled as follows: (2e)—“Date correction transmitted”, (2f)—“Repayment agreement?”, (2g)—“Monthly amount of repayment”, (2n)—“Other special programs: Number 03”, (2n)—“Other special programs: Number 04”, (2n))—“Other special programs: Number 05”, (2p)—“Use if instructed by HUD”, (3s)—Continued on an additional sheet?”, and (8u)—“Total annual travel cost to work/school (Indian Housing only)”.

(2) Form HUD-50058 MTW

The Department did not make any change to the current version of the Form HUD-50058 MTW (6/2001). As many MTW-PHA have already modified their software to meet the requirements of the existing Form HUD-50058 MTW (6/2001), and because the MTW-PHA will be required in the future to modified their software to accommodate the revised Form HUD-50058 when they transition out of the MTW program, the Department will not require the public housing agencies to revise their MTW-software at this time.

(3) Systems to Monitor Reductions in Subsidy Payment Errors

This notice also covers the collection of 9 additional data elements that will allow HUD to monitor and report progress towards the Annual Performance Plan goal to reduce program abuses. First, HUD will collect 3 data elements to measure the amount of Social Security (SS) and Supplemental Security Income (SSI) benefits that are incorrectly reported to public housing agencies. According to the proposed change, during the annual recertification meeting, public housing agencies will access the TASS reports to verify the SSA benefits amount. Once the amount of benefits is verified, users will be requested to enter information into two fields to report: the “Amount initially reported by family” and the “Verified monthly benefit amount”. If there is a discrepancy, the user will be requested to select a code from a drop-down list to explain the reason for the discrepancy: “SSA Error”, “Tenant Error-Tenant Agrees with SSA Info”, or “Tenant Error”. HUD will use this data to accurately measure and report the quantity of SS and SSI-related program abuse errors and the reasons for such discrepancies.

Second, HUD proposes to collect 6 additional data elements through a complementary system to measure the amount of gross wages and unemployment benefits that are incorrectly reported to public housing agencies. During re-certifications, public housing agencies will access state wage and unemployment benefit data in the system to verify the tenant-reported income amounts. Once the income is verified, users will enter information in four fields of the software system to report: The “Gross wage amount initially reported by family”, the “Verified monthly gross wage amount”, the “Unemployment benefit amount initially reported by family”, and the “Verified monthly unemployment benefit amount”. If there are discrepancies between the reported amounts and the verified amounts, the user will select a code from one or two drop-down lists to explain the reason for the discrepancy. The codes are “State Error”, “Tenant Error—Tenant Agrees with State Info”, or “Tenant Error”. This data will be used to accurately measure and report the quantity of wage-related program errors and the reasons for such discrepancies. Together, the collection of these 9 data elements will permit HUD to monitor and report progress towards the Annual Performance Plan goal to reduce program abuses by 50% over the next three years.

This Notice also lists the following information:

Title of Proposal: Family Report, MTW Family Report, Reporting Discrepancy in Tenant-Reported Gross Income.

OMB Control Number(s): 2577-0083, 2577-0083 MTW.

Description of the need for the information and proposed use: Collection of this information is authorized by the U.S. Housing Act of 1937 (42 U.S.C. 1437, et seq.), Title VI of the Civil Rights Act of 1964 (42 U.S.C. 2000d), the Fair Housing Act (42 U.S.C. 3601-19), Section 214 of the Housing and Community Development Act of 1980, and Section 206 of the 1996 HUD Appropriations Act. The information collected through the Form HUD-50058 and the Form HUD-50058 MTW will be used to monitor and evaluate Office of Public and Indian Housing programs including the Public Housing, Section 8 Housing Choice Voucher, Section 8 Project Based Certificate, Section 8 Moderate Rehabilitation, and Moving-to-Work programs. The information collected through the systems to monitor reductions in subsidy payment errors will be used to monitor and report progress towards the Department's Annual Performance Plan goal to reduce subsidy payment errors by 15% in 2003, 30% by 2004, and the Presidential Management goal of reducing such errors by 50% by 2005.

Members of public affected: Public housing agencies, State and local governments, individuals and households.

Estimation of the total number of hours needed to prepare the information collection including number of respondents, frequency of response, and hours of response: Initially, public housing agencies will need one half hour to input the data into each Form HUD-50058 or Form HUD-50058 MTW. After a one-year period, average input time should be reduced to 15 minutes per form. The reduction in time will be achieved by the pre-entering of information on the form that remains unchanged from the previous re-examination (i.e. tenant's name, tenant's date of birth, etc.). Public housing agencies that administer the Family Self Sufficiency (FSS) program will require an additional 15 minutes per form for completion of the information. Also, public housing agencies will need 1 minute to enter the SS and SSI information, and 1 minute to enter the gross wage and unemployment benefit information into payment subsidy monitoring systems.

Estimated Burden Hours of the Proposed Information Collection
Information collection | Number of respondents | Responses per respondent | Total annual responses | Minutes per response | Total hours | Regulatory reference
HUD-50058 | 4,500 | 1,000 | 4,500,000 | 30 | 2,250,000 | 908.101, 960, 982, 984.
HUD-50058 MTW | 22 | 9,008 | 198,176 | 30 | 99,088 | 908.101, 960, 982, 984.
Collections for Monitoring Reductions in Subsidy Payment Errors | 4,522 | 1,106 | 5,000,000 | 1 | 83,333 | 5.234, 5 Subpart F 68 FR 23753.

Projected One-Year Period: Hours per response will be reduced to 0.25 for total burden hours of 1,125,000 for the Form HUD-50058 and 49,544 for the Form HUD-50058 MTW.

Status of the proposed information collection: Extension of a currently approved collection—Form HUD-50058 MTW; extension and revision of currently approved collection—Form HUD-50058; and new collection for monitoring reductions in subsidy payment errors.

Authority: Section 3506 of the Paperwork Reduction Act of 1995, 44 U.S.C. Chapter 35, as amended.

Dated: June 26, 2003.
Michael Liu,
Assistant Secretary for Public and Indian Housing.

BILLING CODE 4210-33-M

[FR Doc. 03-17992 Filed 7-15-03; 8:45 am]

BILLING CODE 4210-33-C